DEPARTMENT OF TRANSPORTATION

Federal Motor Carrier Safety Administration

[Docket No. FMCSA-2005-22938]

Commercial Driver's License Standards; Application for Exemption; Volvo Trucks North America, Inc.

AGENCY: Federal Motor Carrier Safety Administration (FMCSA), DOT.

ACTION: Notice of application for exemption; request for comments.

SUMMARY: FMCSA announces that Volvo Trucks North America, Inc. (Volvo) has applied for an exemption from the Federal requirement for drivers of commercial motor vehicles (CMVs) to hold a commercial driver's license (CDL). Volvo requests that the exemption cover 11 Swedish engineers and technicians who will test-drive CMVs for Volvo within the United States. All 11 Volvo employees hold a valid Swedish CDL. Volvo states the exemption is needed to allow required testing of its CMVs under various climatic and environmental conditions within the United States. Volvo believes the knowledge and skills tests and training program that Swedish drivers undergo to obtain a Swedish CDL ensures the exemption would provide a level of safety that is equivalent to, or greater than, the level of safety obtained by complying with the U.S. requirement for a CDL.

DATES: Comments must be received on or before March 13, 2006.

ADDRESSES: Your comments may be submitted by any of the following methods:

Docket Management System (DMS) Web site at http://dmses.dot.gov/submit, under the last 5 digits of Docket No. FMCSA-2005-22938, and following the on-line instructions for submitting comments.

Fax: 1-202-493-2251.

Mail: Docket Management Facility; U.S. Department of Transportation, 400 Seventh Street, SW., Nassif Building, Room PL-401, Washington, DC 20590-0001.

Hand Delivery: Room PL-401 on the Plaza Level, 400 Seventh Street, SW., Washington, DC, between 9 a.m. and 5 p.m., Monday through Friday, except Federal Holidays.

Federal eRulemaking Portal: http://www.regulations.gov. Follow the on-line instructions for submitting comments.

Docket: To read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want to be notified that we received your comments, please include a self-addressed, stamped envelope or postcard, or you can print the acknowledgement page that appears after submitting comments on-line.

Privacy Act: Anyone may view or download comments submitted in any of DOT's dockets by the name of the commenter or name of the person signing the comment (if submitted on behalf of an association, business, labor union, or other entity). You may view DOT's complete Privacy Act Statement in the Federal Register published on April 11, 2000 at 65 FR 19477. It is also available at http://dms.dot.gov.

FOR FURTHER INFORMATION CONTACT: Mr. Jeffrey Van Ness, (202) 366-4009, Office of Bus and Truck Standards and Operations (MC-PSV), Federal Motor Carrier Safety Administration, DOT, 400 Seventh Street, SW., Washington, DC 20590; or e-mail: jeffrey.vanness@fmcsa.dot.gov. Office hours are from 7:45 a.m. to 4:15 p.m., e.t., Monday through Friday, except Federal holidays.

SUPPLEMENTARY INFORMATION:

Background

Section 4007 of the Transportation Equity Act for the 21st Century (TEA-21), Public Law 105-178, 112 Stat. 107 (June 9, 1998), which amended 49 U.S.C. 31315 and 31136(e), authorizes the agency to grant exemptions from the Federal Motor Carrier Safety Regulations (FMCSRs). On December 8, 1998 (63 FR 67600), the Federal Highway Administration's Office of Motor Carriers, predecessor of FMCSA, published an interim final rule to implement section 4007 of TEA-21. On August 20, 2004 (69 FR 51589), FMCSA adopted as final the interim regulations at 49 CFR part 381. These regulations require FMCSA to publish a notice of each exemption request in the Federal Register, 49 CFR 381.315(a). We must provide the public an opportunity to inspect the information relevant to the application, including any safety analyses that have been conducted. We must also provide an opportunity for public comment on the request.

We will review the safety analyses and the public comments and determine whether granting the exemption would likely achieve a level of safety equivalent to, or greater than, the level that would be achieved by the current regulation, 49 CFR 381.305. We must publish the agency's decision in the Federal Register, 49 CFR 381.315(b). If the agency denies the request, we must state the reason for doing so. If the agency grants the exemption, we must publish a notice to: specify the person or class of persons receiving the exemption; the regulatory provision or provisions from which exemption is being granted; the effective period of the exemption (up to 2 years); and the terms and conditions of the exemption. The exemption may be renewed, 49 CFR 381.300(b).

Volvo Trucks North America, Inc.'s Application for an Exemption

Volvo has applied for an exemption from the commercial driver's license (CDL) rules. Specifically, 49 CFR 383.23 prescribes licensing requirements for drivers operating CMVs in interstate or intrastate commerce. Volvo requests the exemption because its driver-employees are citizens and residents of Sweden, and because they cannot apply for a CDL from a State in the United States. A copy of the application is in Docket No. FMCSA-2005-22938.

The exemption would allow the following 11 drivers to operate tractor trailer combination vehicles in interstate commerce as part of a team of drivers who develop, design and/or test engines for CMVs that will be manufactured, assembled, sold or primarily used in the United States: Christer Milding, Jonas Gustafsson, Sten-Ake Sandberg, Daniel Kanebratt, Per Urban Walter, Dennis Mattsson, Fredrik Wattwil, Jonas Nilsson, Bjorn Nyman, Lars Johansson, and David Aas.

These drivers are a team of designers employed by Volvo in Sweden, that would operate CMVs in the United States for the purpose of testing and evaluating production and prototype CMVs to ensure the vehicles are well-tested for use on U.S. highways. Each driver holds a valid Swedish CDL. Because of strict Swedish regulations for obtaining a CDL and the drivers' level of training and experience, Volvo believes the exemption will likely achieve a level of safety equivalent to, or greater than, the level of safety that would be obtained absent the exemption.

Volvo explained that drivers applying for a Swedish-issued CDL must pass knowledge and skills tests. Therefore, the process for obtaining a Swedish-issued CDL is considered to be comparable to, or as effective as the Federal requirements of Part 383, and adequately assesses the driver's ability to operate CMVs in the United States.

Once a Swedish driver is granted a Swedish CDL, he/she is allowed to drive any CMV currently allowed on Swedish roads. There are no limits to types or weights of vehicles that may be operated by the drivers.

Request for Comments

Accordingly, FMCSA requests public comment from all interested persons on Volvo's application for an exemption from the CDL requirements of 49 CFR 383.23. See 49 U.S.C. 31315(b)(4) and 31136(e). The agency will consider all comments received by close of business on March 13, 2006. Comments will be available for examination in the docket. We will consider comments received after the comment closing date to the extent practicable.

Issued on: February 2, 2006.
Annette M. Sandberg,
Administrator.

[FR Doc. E6-1755 Filed 2-8-06; 8:45 am]

BILLING CODE 4910-EX-P